DEPARTMENT OF COMMERCE

Foreign-Trade Zones Board

[Docket 39-2009]

Foreign-Trade Zone 138-Columbus, Ohio Application for Subzone Status, Abercrombie & Fitch, (Footwear and Apparel Distribution), New Albany, OH

An application has been submitted to the Foreign-Trade Zones Board (the Board) by the Columbus Regional Airport Authority, grantee of FTZ 138, requesting special-purpose subzone status for the footwear and apparel warehousing and distribution facility of Abercrombie & Fitch (A&F), located in New Albany, Ohio. The application was submitted pursuant to the provisions of the Foreign-Trade Zones Act, as amended (19 U.S.C. 81a-81u), and the regulations of the Board (15 CFR part 400). It was formally filed on September 25, 2009.

The A&F facility (453 acres, 2,631,585 sq. ft., 3,407 employees) is located at 6201/6301 Fitch Path & 7795 Smiths Mill Road, New Albany, Ohio. The facility is used for warehousing and distribution of foreign-origin apparel and footwear for the U.S. market and export. FTZ procedures would be utilized to support A&F's U.S.-based distribution activity. Foreign products to be admitted to the proposed subzone for distribution would include men's, boys', women's and girls' footwear, coats, suits, blazers, blouses, trousers, breeches, shorts, shirts, skirts, tops, ski jackets, underwear, petticoats, pajamas, swimwear, scarves, hats, shawls, mufflers, gloves and mittens. Certain textile fabrics (wool, cotton, silk; woven and knit) would also be distributed from the proposed subzone. Additional products that would be admitted to the proposed subzone for distribution are: articles of plastic; various vanity, attachĕ brief and suitcases; handtools; machinery; jewelry; leather goods; paintings, lamps; and, spotlights. The applicant is not seeking manufacturing or processing authority with this request.

FTZ procedures could exempt A&F from customs duty payments on foreign products that are exported (about 2% of shipments). On its domestic sales, the company would be able to defer duty payments until the foreign merchandise is shipped from the facility and entered for consumption. FTZ designation would further allow A&F to realize logistical benefits through the use of weekly customs entry procedures. The request indicates that the savings from FTZ procedures would help improve the facility's international competitiveness.

In accordance with the Board's regulations, Claudia Hausler of the FTZ Staff is designated examiner to evaluate and analyze the facts and information presented in the application and case record and report findings and recommendations to the Board.

Public comment is invited from interested parties. Submissions (original and 3 copies) shall be addressed to the Board's Executive Secretary at the address below. The closing period for their receipt is December 14, 2009. Rebuttal comments in response to material submitted during the foregoing period may be submitted during the subsequent 15-day period to December 28, 2009.

A copy of the application will be available for public inspection at the Office of the Executive Secretary, Foreign-Trade Zones Board, Room 2111, U.S. Department of Commerce, 1401 Constitution Avenue, NW, Washington, DC 20230-0002, and in the “Reading Room” section of the Board's website, which is accessible via www.trade.gov/ftz. For further information, contact Claudia Hausler at Claudia_Hausler@ita.doc.gov, or (202) 482-1379.

Dated: September 25, 2009.
Pierre V. Duy,
Acting Executive Secretary.

[FR Doc. E9-24605 Filed 10-9-09; 8:45 am]

BILLING CODE 3510-DS-S